DEPARTMENT OF COMMERCE

National Oceanic Atmospheric Administration

50 CFR Part 622

[I.D. 040703A]

RIN 0648-AN87

Fisheries of the South Atlantic; Pelagic Sargassum Habitat in the South Atlantic; Fishery Management Plan; Correction

AGENCY: National Marine Fisheries Service (NMFS), National Oceanic and Atmospheric Administration (NOAA), Commerce.

ACTION: Notice of availability of a revised fishery management plan for the pelagic Sargassum habitat of the South Atlantic Region (FMP); correction.

SUMMARY: This document contains a correction to the notice published on Thursday, April 17, 2003. The notice announced the availability of a fishery management plan for pelagic Sargassum habitat of the South Atlantic region.

DATES: Comments must be received on or before June 16, 2003.

ADDRESSES: Comments on the FMP must be mailed to the Southeast Regional Office, NMFS, 9721 Executive Center Drive N., St. Petersburg, FL 33702. Comments may also be sent via fax to 727-522-5583. Comments will not be accepted if submitted via e-mail or Internet.

Requests for copies of the FMP should be sent to the South Atlantic Fishery Management Council, One Southpark Circle, Suite 306, Charleston, SC 29407-4699; Phone: 843-571-4366; fax 843-769-4520; e-mail: safmc@safmc.net.

Correction

Accordingly, the publication on April 17, 2003, FR Doc 03-9490 is corrected as follows:

On page 18942, column 2, paragraph 2, line 5 remove the text “2°” and add in its place “20°”.

Dated: April 25, 2003.
Richard W. Surdi,
Acting Director, Office of Sustainable Fisheries, National Marine Fisheries Service.

[FR Doc. 03-10802 Filed 5-2-03; 8:45 am]

BILLING CODE 3510-22-S